DEPARTMENT OF JUSTICE

Notice of Lodging of First Addendum to Consent Decree Under the Emergency Planning and Community Right-To-Know Act, the Clean Water Act, the Resource Conservation and Recovery Act, the Federal Insecticide, Fungicide, and Rodenticide Act, the Comprehensive Environmental Response, Compensation, and Liability Act, the Safe Drinking Water Act, and the Clean Air Act

Under 28 CFR 50.7, notice is hereby given that on August 25, 2011, a proposed First Addendum to Consent Decree in United States, et, al. v. INVISTA, S.à r.l, Civil Action Number 1:2009-cv-00244, was lodged with the United States District Court for the District of Delaware.

The Consent Decree in this matter was entered on July 28, 2009. The Consent Decree resolves claims against INVISTA S.à r.l. (“INVISTA”) brought by the United States on behalf of the U.S. Environmental Protection Agency (“EPA”) under the Emergency Planning and Community Right-to-Know Act (EPCRA), 42 U.S.C. 11001 to 11050; the Clean Water Act (CWA), 42 U.S.C. 1251 to 1387; the Resource Conservation and Recovery Act (RCRA), 42 U.S.C. 6901 to 6992k; the Federal Insecticide, Fungicide, and Rodenticide Act (FIFRA), 7 U.S.C. 136 to 136y; Section 103(a) of the Comprehensive Environmental Response, Compensation, and Liability Act (CERCLA), 42 U.S.C. 9601 to 9675; the Safe Drinking Water Act (SDWA), 42 U.S.C. 300f to 300j-26; and the Clean Air Act (CAA), 42 U.S.C. 7401 to 7671q (hereinafter “Environmental Requirements”). The Consent Decree also resolves the claims against INVISTA brought by the State of Delaware Department of Natural Resources and Environmental Control, the State of South Carolina Department of Health and Environmental Control, and the Chattanooga-Hamilton County Air Pollution Control Board.

The First Addendum to Consent Decree modifies deadlines for benzene waste NESHAP program enhancements at two INVISTA facilities in Orange and Victoria, Texas. The First Addendum extends the time for INVISTA to elect between two options for further benzene emission reductions and extends the time to implement the selected option. INVISTA will continue to comply with the benzene NESHAP throughout this period.

The Department of Justice will receive, for a period of 30 days from the date of this publication, comments relating to the proposed Consent Decree. Comments should be addressed to the Assistant Attorney General for the Environment and Natural Resources Division, and either e-mailed to pubcomment-ees.enrd@usdoj.gov or mailed to P.O. Box 7611, U.S. Department of Justice, Washington, DC 20044-7611, and should refer to United States et al. v. INVISTA, S.a.r.l, DOJ Ref. No. 90-5-2-1-08892.

The proposed First Addendum to Consent Decree may be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy of the Consent Decree from the Consent Decree Library, please enclose a check in the amount of $2.00 (.25 cents per page reproduction costs), payable to the U.S. Treasury.

Robert D. Brook,
Assistant Section Chief, Environmental Enforcement Section, Environment and Natural Resources Division.

[FR Doc. 2011-22121 Filed 8-29-11; 8:45 am]

BILLING CODE 4410-15-P